INTERNATIONAL TRADE COMMISSION

[Investigation No. 337-TA-1119]

Certain Infotainment Systems, Components Thereof, and Automobiles Containing the Same; Commission Determination To Review In Part, and on Review To Modify, an Initial Determination Granting-In-Part and Denying-In-Part Complainant's Motion To Amend the Complaint and Notice of Investigation To add Respondents

AGENCY: U.S. International Trade Commission.

ACTION: Notice.

SUMMARY: Notice is hereby given that the U.S. International Trade Commission has determined to review-in-part, and on review to modify, an initial determination (“ID”) (Order No. 14) of the presiding administrative law judge (“ALJ”) granting-in-part and denying-in-part complainant's motion for leave to amend the complaint and notice of investigation to add respondents; and extending the target date for completion of the above-captioned investigation to December 16, 2019.

FOR FURTHER INFORMATION CONTACT: Clara Kuehn, Office of the General Counsel, U.S. International Trade Commission, 500 E Street SW, Washington, DC 20436, telephone (202) 205-3012. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on June 12, 2018, based on a complaint filed by Broadcom Corporation of San Jose, CA (“Broadcom” or “complainant”). 83 FR 27349-50 (Jun. 12, 2018). The complaint, as supplemented, alleges violations of section 337 of the Tariff Act of 1930, as amended, 19 U.S.C. 1337 (“section 337”), in the importation into the United States, the sale for importation, and the sale within the United States after importation of certain infotainment systems, components thereof, and automobiles containing the same by reason of infringement of U.S. Patent Nos. 6,937,187; 8,902,104; 7,512,752; 7,530,027; 8,284,844; and 7,437,583. Id. The notice of investigation named fifteen (15) respondents: Toyota Motor Corporation of Toyota City, Japan; Toyota Motor North America, Inc., Toyota Motor Sales, U.S.A., Inc., and Toyota Motor Engineering & Manufacturing North America, Inc. of Plano, TX; Toyota Motor Manufacturing, Indiana, Inc. of Princeton, IN; Toyota Motor Manufacturing, Kentucky, Inc. of Erlanger, KY; Toyota Motor Manufacturing, Mississippi, Inc. of Tupelo, MS; Toyota Motor Manufacturing, Texas, Inc. of San Antonio, TX; Panasonic Corporation of Osaka, Japan; Panasonic Corporation of North America of Newark, NJ; Denso Ten Limited of Kobe City, Japan; Denso Ten America Limited of Torrance, CA; Renesas Electronics Corporation of Tokyo, Japan; Renesas Electronics America, Inc. of Milpitas, CA; and Japan Radio Co., Ltd. of Tokyo, Japan (collectively, the “current respondents”). Id. The notice of investigation did not name the Office of Unfair Import Investigations as a party to the investigation. Id.

On September 10, 2018, Broadcom filed a motion for leave to amend the complaint and notice of investigation to add four groups of additional respondents: (1) Pioneer Corporation; Pioneer North America, Inc.; and Pioneer Automotive Technologies, Inc.; (2) Denso Corporation; Denso International America, Inc.; Denso Manufacturing Tennessee, Inc..; and Denso Wireless Systems America, Inc. (collectively, “the additional Denso respondents”); (3) u-blox AG; u-blox America, Inc.; and u-blox San Diego, Inc. (collectively, “the u-blox respondents”); and (4) Socionext Inc. and Socionext America Inc.; and to extend the target date. On September 20, 2018, the current respondents jointly filed an opposition to Broadcom's motion to amend, and the four groups of additional respondents each filed an opposition to Broadcom's motion to amend. On September 25, 2018, Broadcom filed a reply.

On October 3, 2018, the ALJ issued the subject ID granting-in-part and denying-in-part complainant's motion. Specifically, the ALJ determined (1) to grant the motion as to adding as respondents each of the additional Denso respondents, each of the u-blox respondents; Pioneer Corporation; Pioneer Automotive Technologies, Inc.; and Socionext Inc; (2) to deny the motion as to adding Pioneer North America, Inc. and Socionext America, Inc. as respondents; and (3) to extend the target date by two months to December 16, 2019. The ID states that the final ID shall be due on August 16, 2019.

On October 11, 2018, the u-blox respondents jointly filed a petition for review of the ID. No other petitions for review were filed. On October 18, 2018, Broadcom filed its response.

The Commission has determined to review-in-part the ALJ's ID. Specifically, the Commission has determined to review the ALJ's finding (ID at 10) that “[u]-blox does not deny its involvement in selling these components” and, on review, modify it to read: “Except with respect to u-blox San Diego, Inc., u-blox does not deny its involvement in selling these components. . . .”

The Commission has determined not to review the balance of the ID. Pioneer Corporation of Tokyo, Japan; Pioneer Automotive Technologies, Inc. of Farmington Hills, MI; Denso Corporation of Kariya, Aichi, Japan; Denso International America, Inc. of Southfield, MI; Denso Manufacturing Tennessee, Inc. of Maryville, TN; and Denso Wireless Systems America, Inc. of Vista, CA; u-blox AG of Thalwil, Switzerland; u-blox America, Inc. of Reston, VA; u-blox San Diego, Inc. of San Diego, CA; and Socionext Inc. of Yokohama, Kanagawa, Japan are now respondents in the investigation. The target date for completion of the investigation is December 16, 2019.

The authority for the Commission's determination is contained in section 337 of the Tariff Act of 1930, as amended, 19 U.S.C. 1337, and in Part 210 of the Commission's Rules of Practice and Procedure, 19 CFR part 210.

By order of the Commission.
Issued: November 1, 2018.
Lisa Barton
Secretary to the Commission.

[FR Doc. 2018-24288 Filed 11-6-18; 8:45 am]

BILLING CODE 7020-02-P